COMMITTEE FOR PURCHASE FROM PEOPLE WHO ARE BLIND OR SEVERELY DISABLED

Procurement List; Proposed Additions

AGENCY: Committee for Purchase from People Who are Blind or Severely Disabled.

ACTION: Proposed additions to the procurement list.

SUMMARY: The Committee is proposing to add services to the Procurement List that will be provided by nonprofit agencies employing persons who are blind or have other severe disabilities.

DATES: Comments Must Be Received on or Before: 2/28/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type: Base Supply Center Service

Mandatory for: U.S. Army, P.O. Box 35510, Fort Wainwright, AK

Mandatory Source(s) of Supply: RLCB, Inc., Raleigh, NC

Contracting Activity: Dept of the Army, 0413 AQ HQ, HQ PARC, Fort Wainwright, AK

Service Type: Temporary Administrative and Professional Support For Individuals with Disabilities Service

Mandatory for: Executive Office of the President, Washington, DC

Mandatory Source(s) of Supply: Columbia Lighthouse for the Blind, Washington, DC

Contracting Activity: Executive Office of the President, Office of Administration, Office of the Chief Financial Officer, Procurement Division, Washington, DC

Barry S. Lineback,
Director, Business Operations.

[FR Doc. 2016-01704 Filed 1-28-16; 8:45 am]

BILLING CODE 6353-01-P